DEPARTMENT OF TRANSPORTATION

Federal Transit Administration

Intent To Prepare an Environmental Impact Statement for Proposed Transit Improvements in the Regional Connector Transit Corridor, Los Angeles, CA

AGENCY: Federal Transit Administration, DOT.

ACTION: Notice of intent to prepare an environmental impact statement.

SUMMARY: The Federal Transit Administration (FTA) and the Los Angeles County Metropolitan Transportation Authority (LACMTA) intends to prepare an environmental impact statement (EIS) for the Regional Connector Transit Corridor Project in Los Angeles County, California. LACMTA operates the Metro transit system in Los Angeles County. The proposed project would provide a direct link connecting several light rail service lines in operation or in construction through downtown Los Angeles, CA.

The project area lies entirely within the City of Los Angeles and is within the densely developed downtown core that includes multi-family residences, industrial and public lands, commercial and retail establishments, government office buildings, and private high-rise office towers.

The EIS will be prepared in accordance with the requirements of the National Environmental Policy Act (NEPA) and its implementing regulations. LACMTA will also use the EIS document to comply with the California Environmental Quality Act (CEQA), which requires an Environmental Impact Report (EIR). The purpose of this notice is to alert interested parties regarding the intent to prepare the EIS, to provide information on the nature of the proposed project and possible alternatives, to invite public participation in the EIS process (including providing comments on the scope of the Draft Environmental Impact Statement (DEIS), to announce that public scoping meetings will be conducted, and to identify participating and cooperating agency contacts.

DATES: Written comments on the scope of the EIS, including the project's purpose and need, the alternatives to be considered, the impacts to be evaluated, and the methodologies to be used in the evaluations should be sent to LACMTA on or before May 11, 2009 at the address below. See ADDRESSES below for the address to which written public comments may be sent. Public scoping meetings to accept comments on the scope of the EIS/EIR will be held on the following dates:

• Monday, March 30, 2009; 4:30 p.m. to 6 p.m.; at the University of Southern California (USC), Alumni Room, Davidson Conference Center, 3415 S Figueroa St, Los Angeles, CA 90007.

• Tuesday, March 31, 2009; 6:30 p.m. to 8 p.m.; at the Lake Avenue Church, 393 N Lake Avenue, Pasadena, CA 91101.

• Wednesday, April 1, 2009; 6:30 p.m. to 8 p.m.; at the Japanese American National Museum (JANM), 369 E 1st Street, Los Angeles, CA 90012.

• Thursday, April 2, 2009; Noon to 1:30 p.m.; at the Los Angeles Central Library, Board Room, 630 W 5th Street, Los Angeles, CA 90071.

The project's purpose and need and the description of alternatives for the proposed project will be presented at these meetings. The buildings used for the scoping meetings are accessible to persons with disabilities. Any individual who requires special assistance, such as a sign language interpreter, to participate in the scoping meeting should contact Ms. Ann Kerman, Community Relations Manager, LACMTA, at (213) 922-7671, or kermana@metro.net.

Scoping materials will be available at the meetings and on the LACMTA Web site (http://www.metro.net/regionalconnector). Paper copies of the scoping materials may also be obtained from Ms. Ann Kerman, Community Relations Manager, LACMTA, at (213) 922-7671, or kermana@metro.net. An interagency scoping meeting will be held on Thursday, March 26, 2009 at 1:30 p.m. at LACMTA, in the Gateway Plaza Room, One Gateway Plaza, Los Angeles, CA 90012. Representatives of Native American tribal governments and of all Federal, State, regional and local agencies that may have an interest in any aspect of the project will be invited to be participating or cooperating agencies, as appropriate.

ADDRESSES: Comments will be accepted at the public scoping meetings or they may be sent to Ms. Dolores Roybal Saltarelli, AICP, Project Manager, Los Angeles County Metropolitan Transportation Authority, One Gateway Plaza, Mail Stop? Los Angeles, CA 90012, or via e-mail at roybald@metro.net. The locations of the public scoping meetings are given above under DATES.

FOR FURTHER INFORMATION CONTACT: Mr. Ray Tellis, Team Leader, Los Angeles Metropolitan Office, Federal Transit Administration, 888 South Figueroa Street, Suite 1850, Los Angeles, CA 90017, phone (213) 202-3950, e-mail ray.tellis@dot.gov.

SUPPLEMENTARY INFORMATION:

Scoping

The FTA and LACMTA invite all interested individuals and organizations, public agencies, and Native American Tribes to comment on the scope of the EIS, including the project's purpose and need, the alternatives to be studied, the impacts to be evaluated, and the evaluation methods to be used. Comments should focus on: Alternatives that may be less costly or have less environmental or community impacts while achieving similar transportation objectives, and the identification of any significant social, economic, or environmental issues relating to the alternatives.

Project Initiation

The FTA and LACMTA will prepare an Environmental Impact Statement/Environmental Impact Report (EIS/EIR) for the Regional Connector Transit Corridor pursuant to 23 U.S.C. 139 and the California Environmental Quality Act (CEQA). LACMTA is serving as the local lead agency for purposes of CEQA environmental clearance, and FTA is serving as the federal lead agency for purposes of National Environmental Policy Act (NEPA) environmental clearance. This notice shall alert interested parties to the preparation of the EIS/EIR, describe the alternatives under consideration, invite public participation in the EIS/EIR process, and announce the public scoping meetings. FTA and LACMTA will invite interested Federal, State, tribal, regional and local government agencies to be participating agencies under the provisions of section 6002 of SAFETEA-LU.

Purpose and Need for the Project

The purpose of this project is to improve the region's public transit service and mobility. The overall goal of the project is to improve mobility within the corridor by connecting to the light rail service of the Metro Gold Line to Pasadena, the Metro Gold Line Eastside Extension, the Metro Blue Line, and the Metro Expo Line. This link would serve communities across the region, allowing greater accessibility while serving population and employment growth in downtown Los Angeles. Mobility issues throughout the region and the identified need to join the unconnected segments of the light rail system have been documented in several past studies, including the Pasadena—Los Angeles Light Rail Transit Project Environmental Impact Report (1993), the Blue Line Connection Preliminary Planning Study (1993), and the Regional Light Rail Connector Study (2004).

Additional considerations supporting the need for the Regional Connector Transit Corridor project include: Increased travel times and station overcrowding occurring due to multiple transfers required to traverse the project area; a project area that has many transit dependent residents; poor system connectivity that results in reduced system schedule reliability as current system expansions are completed; and investments within the project area could improve system-wide operations in regards to travel times and safety issues.

Project Location and Environmental Setting

The proposed light rail transit (LRT) project lies entirely within the City of Los Angeles and is generally bounded by U.S. Highway 101 on the north, 7th and 9th Streets on the south, Alameda Street on the east, and State Route 110 on the west. Project length is just under two miles and the LRT alternatives would have up to four stations plus ancillary facilities including power substations. The project area is the largest regional employment center in Los Angeles County, and is densely developed with multi-family residences, industrial and public lands, commercial and retail establishments, government office buildings, and private high-rise office towers.

The proposed Regional Connector project would provide a direct link connecting several light rail service lines in operation or in construction (i.e., the Metro Gold Line to Pasadena, the Metro Gold Line Eastside Extension, the Metro Blue Line, and the Metro Expo Line). The proposed project would create a connection in downtown Los Angeles that would link the Metro Blue and Expo Lines termini at 7th Street/Metro Center Station (7th Street and Flower Street) to the Metro Gold Line (Pasadena and Eastside) at the Little Tokyo/Arts District Station at 1st Street and Alameda Street. This connection would provide through service between the Metro Blue Line to Long Beach, the Metro Gold Line to Pasadena and East Los Angeles, and the Metro Expo Line to Culver City. With the implementation of the Regional Connector project, these four lines would share tracks and stations in downtown Los Angeles.

The various alternatives to be considered for the Regional Connector project generally traverse Flower Street north from 7th Street, 2nd Street between Flower and Alameda, Main and Los Angeles Streets between Temple Street and 2nd Street, Temple Street between City Hall and Alameda Street, and Alameda Street between U.S. Highway 101 and 2nd Street.

Alternatives

The Regional Connector Transit Corridor Final Alternatives Analysis Report (2009) prepared by LACMTA identified four alternatives for further consideration in the EIS/EIR. The four alternatives include: A No-Build Alternative, Transportation System Management (TSM) Alternative, At-Grade Emphasis LRT Alternative, and Underground Emphasis LRT Alternative.

No-Build Alternative: The No Build Alternative would maintain existing transit service through the year 2030. No new transportation infrastructure would be built within the project area aside from projects currently under construction, or funded for construction and operation by 2030 by recently approved Measure R sales tax. Bus transit service under the No Build Alternative would be focused on the preservation of existing services and projects. By the projection year of 2030, some bus service would have been reorganized and expanded to provide connections with the new rail lines; however, the transit network within the project area would largely be the same as it is now.

Transportation Systems Management (TSM) Alternative: The TSM Alternative would include the provisions of the No Build Alternative and add two shuttle bus routes from 7th Street/Metro Center station to Union Station providing a link between the region's unconnected LRT services, one along Grand Ave. and 1st St., and one along Figueroa, Flower, 2nd, and 3rd Streets. The shuttle buses would use existing bus-only lanes, where available, and would be fitted with transit-priority signalization devices similar to those used on Metro Rapid. Stops would be located every few blocks so as to provide full coverage of the area. Each shuttle route would be one and one-half to two miles in length.

At-Grade Emphasis LRT Alternative: This alternative would extend from the underground 7th Street/Metro Center Station, head north under Flower Street, surface to at-grade north of 5th Street, cross 3rd Street, enter Bunker Hill, and turn northeast through a new entrance to the existing 2nd Street tunnel. The alignment would continue along 2nd Street where it would split into an at-grade couplet configuration on Main and Los Angeles Streets (one track on each roadway) to Temple Street. Then it would head east on Temple Street and realign into a dual track configuration just north of the Metro Gold Line Little Tokyo/Arts District Station on Alameda Street. Due to the high volume of trains that would traverse the Regional Connector, an automobile underpass and pedestrian overpass would be constructed at the intersection of Temple and Alameda Streets to eliminate pedestrian-train and automobile-train conflicts.

There are two options for the configuration on Flower Street. For Option A, trains would transition to underground tracks after crossing 3rd Street and continue to a new underground station just south of 5th Street, then proceed to the 7th Street/Metro Center Station and arrive at the existing Metro Blue Line platform. For Option B, trains would arrive at an at-grade station after crossing 3rd Street, then transition to underground tracks near 4th Street to reach the existing Metro Blue Line platform at 7th Street/Metro Center station. In total, the At-Grade Emphasis LRT Alternative would add 1.8 miles of new double track to the light rail system.

In addition to the Option A and Option B Station configurations, other station locations would include a station adjacent to Bunker Hill, south of 2nd Street and Hope Street, and a split station using Main and Los Angeles Streets between 1st and Temple Streets. A fourth optional station on 2nd Street between Broadway and Los Angeles Street will be analyzed.

Underground Emphasis LRT Alternative: From the 7th Street/Metro Center Station, this alternative would extend north along Flower Street with a new underground station north of 5th Street. At 2nd Street, the underground tunnel would extend east with new underground stations to provide access to Bunker Hill and to the area between Los Angeles Street and Broadway. The tunnel would emerge to at-grade connections just southwest of the intersection of 1st and Alameda Streets. At 1st and Alameda Streets, a new underpass would carry car and truck traffic along Alameda Street below the rail junction, and a new overhead pedestrian bridge structure would eliminate most conflicts between pedestrians and trains. This Alternative would have a single at-grade crossing at the intersection of 1st and Alameda Streets. The rest of the route would be underground. The length of this proposed route would be 1.6 miles.

Station locations for this alternative would all be underground and include the area north of 5th Street on Flower Street, adjacent to Bunker Hill just south of 2nd Street and 2nd Street between Los Angeles and Main Streets.

Probable Effects

The purpose of this EIS/EIR process is to study, in a public setting, the effects of the proposed project and its alternatives on the physical, human, and natural environment. The FTA and LACMTA will evaluate all significant environmental, social, and economic impacts of the construction and operation of the proposed project. Impact areas to be addressed include: transportation, land use, zoning and economic development, secondary development, land acquisition, displacements and relocations, cultural resources (including historical, archaeological, and paleontological resources), parklands/recreational facilities, neighborhood compatibility and environmental justice, visual and aesthetic impacts, natural resources (including air quality, noise and vibration, wetlands, water resources, geology/soils, and hazardous materials), energy use, safety and security, wildlife, and ecosystems. Measures to avoid, minimize, and mitigate adverse impacts will be identified and evaluated.

FTA Procedures

The regulations implementing NEPA, as well as provisions of the Safe, Accountable, Flexible, Efficient Transportation Equity Act: A Legacy for Users (SAFETEA-LU), call for public involvement in the EIS process. Section 6002 of SAFETEA-LU requires that FTA and LACMTA do the following: (1) Extend an invitation to other Federal and non-Federal agencies and Native American tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other Federal and non-Federal agencies and Native American tribes that may have an interest in the proposed project. It is possible that FTA and LACMTA will not be able to identify all Federal and non-Federal agencies and Native American tribes that may have such an interest. Any Federal or non-Federal agency or Native American tribe interested in the proposed project that does not receive an invitation to become a participating agency should notify at the earliest opportunity the Project Manager identified above under ADDRESSES.

A comprehensive public involvement program and a Coordination Plan for public and interagency involvement will be developed for the project and posted on LACMTA's Web site (Regional Connector Transit Corridor Project Web page: http://www.metro.net/regionalconnector). The public involvement program includes a full range of activities including the project Web page on the LACMTA Web site, development and distribution of project newsletters, and outreach to local officials, community and civic groups, and the public. Specific activities or events for involvement will be detailed in the public involvement program.

LACMTA may seek New Starts funding for the proposed project under 49 United States Code 5309 and will, therefore, be subject to New Starts regulations (49 Code of Federal Regulations (CFR) part 611). The New Starts regulations also require the submission of certain project-justification information to support a request to initiate preliminary engineering. This information is normally developed in conjunction with the NEPA process. Pertinent New Starts evaluation criteria will be included in the EIS.

The EIS will be prepared in accordance with NEPA and its implementing regulations issued by the Council on Environmental Quality (40 CFR parts 1500-1508) and with the FTA/Federal Highway Administration regulations “Environmental Impact and Related Procedures” (23 CFR part 771). In accordance with 23 CFR 771.105(a) and 771.133, FTA will comply with all Federal environmental laws, regulations, and executive orders applicable to the proposed project during the environmental review process to the maximum extent practicable. These requirements include, but are not limited to, the environmental and public hearing provisions of Federal transit laws (49 U.S.C. 5301(e), 5323(b), and 5324); the project-level air quality conformity regulation of the U.S. Environmental Protection Agency (EPA) (40 CFR part 93); the section 404(b)(1) guidelines of EPA (40 CFR part 230); the regulation implementing section 106 of the National Historic Preservation Act (36 CFR part 800); the regulation implementing section 7 of the Endangered Species Act (50 CFR part 402); section 4(f) of the Department of Transportation Act (23 CFR 771.135); and Executive Orders 12898 on environmental justice, 11988 on floodplain management, and 11990 on wetlands.

Issued on: March 19, 2009.
Leslie T. Rogers,
Regional Administrator, Region IX, Federal Transit Administration.

[FR Doc. E9-6421 Filed 3-23-09; 8:45 am]

BILLING CODE 4910-57-P